DEPARTMENT OF LABOR

Office of the Secretary

Agency Information Collection Activities; Submission for OMB Review; Comment Request; Contingent Work Supplement to the Current Population Survey

ACTION: Notice.

SUMMARY: The Department of Labor (DOL) is submitting the Bureau of Labor Statistics (BLS) sponsored information collection request (ICR) titled, “Contingent Work Supplement to the Current Population Survey,” to the Office of Management and Budget (OMB) for review and approval for use in accordance with the Paperwork Reduction Act (PRA) of 1995. Public comments on the ICR are invited.

DATES: The OMB will consider all written comments that agency receives on or before April 3, 2017.

ADDRESSES: A copy of this ICR with applicable supporting documentation; including a description of the likely respondents, proposed frequency of response, and estimated total burden may be obtained free of charge from the RegInfo.gov Web site at http://www.reginfo.gov/public/do/PRAViewICR?ref_nbr=201609-1220-001 (this link will only become active on the day following publication of this notice) or by contacting Michel Smyth by telephone at 202-693-4129, TTY 202-693-8064, (these are not toll-free numbers) or sending an email to DOL_PRA_PUBLIC@dol.gov.

Submit comments about this request by mail or courier to the Office of Information and Regulatory Affairs, Attn: OMB Desk Officer for DOL-BLS, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Michel Smyth by telephone at 202-693-4129, TTY 202-693-8064, (these are not toll-free numbers) or sending an email to DOL_PRA_PUBLIC@dol.gov.

Authority: 44 U.S.C. 3507(a)(1)(D).

SUPPLEMENTARY INFORMATION: This ICR seeks approval under the PRA to reinstate, with changes from the most recent approval, the Contingent Work Supplement (CWS) to the Current Population Survey. The 2017 CWS will provide information on the characteristics of workers in contingent jobs, i.e., jobs structured to last only a limited period. The CWS will also provide information about workers in several alternative employment arrangements, including independent contractors, on-call workers, temporary help agency workers, and workers provided by contract companies. The CWS was fielded every 2 years from 1995 to 2005; however, since then, there have been no reliable and comparable statistics to show how the number and characteristics of these workers have changed over time. In order to maintain data comparability, the 2017 CWS questionnaire will largely be the same as that used in 2005; however, because new types of work have emerged since the last CWS collection, the BLS proposes to add 4 new questions to the end of the CWS. These new questions will explore how the Internet and mobile device applications have changed the type of work people do and how they are paid. The BLS Authorizing Statute authorizes this information collection. See 29 U.S.C. 1, 2.

This proposed information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid Control Number. See 5 CFR 1320.5(a) and 1320.6. For additional substantive information about this ICR, see the related notice published in the Federal Register on September 30, 2016 (81 FR 67394).

Interested parties are encouraged to send comments to the OMB, Office of Information and Regulatory Affairs at the address shown in the ADDRESSES section within thirty (30) days of publication of this notice in the Federal Register. In order to help ensure appropriate consideration, comments should mention OMB Control Number 1220-0153. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-BLS.

Title of Collection: Contingent Work Supplement to the Current Population Survey.

OMB Control Number: 1220-0153.

Affected Public: Individuals or Households.

Total Estimated Number of Respondents: 47,000.

Total Estimated Number of Responses: 47,000.

Total Estimated Annual Time Burden: 7,050 hours.

Total Estimated Annual Other Costs Burden: $0.

Dated: February 27, 2017.
Michel Smyth,
Departmental Clearance Officer.

[FR Doc. 2017-04111 Filed 3-2-17; 8:45 am]

BILLING CODE 4510-24-P